FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201279.

Agreement Name: Concession Agreement between Diamond State Port Corporation and GT USA Wilmington, LLC.

Parties: Diamond State Port Corporation and GT USA Wilmington, LLC.

Filing Party: Elizabeth Lowe; Venable LLP.

Synopsis: The Agreement is a terminal lease and operating agreement for terminal facilities at the port of Wilmington, DE.

Proposed Effective Date: 10/10/2018.

Location: https://www2.fmc.gov/FMC.Agreements.Web/Public/AgreementHistory/18301.

Agreement No.: 012421-001.

Agreement Name: “K” Line/Hyundai Glovis Co., Ltd. U.S./Mexico Space Charter Agreement.

Parties: Kawasaki Kisen Kaisha, Ltd. and Hyundai Glovis Co., Ltd.

Filing Party: Wayne Rohde; Cozen O'Connor.

Synopsis: The amendment adds the Caribbean Coast of Colombia to the geographic scope of the Agreement.

Proposed Effective Date: 10/12/2018.

Location: https://www2.fmc.gov/FMC.Agreements.Web/Public/AgreementHistory/1891.

Agreement No.: 012414-001.

Agreement Name: LGL/Glovis Space Charter Agreement.

Parties: Liberty Global Logistics LLC and Hyundai Glovis Co., Ltd.

Filing Party: Brooke Shapiro; Winston & Strawn LLP.

Synopsis: The amendment adds The United States Gulf Coast, the United States West Coast, Puerto Rico, and Mexico to the geographic scope of the Agreement.

Proposed Effective Date: 10/12/2018.

Location: https://www2.fmc.gov/FMC.Agreements.Web/Public/AgreementHistory/1879.

Agreement No.: 201280.

Agreement Name: BBC/Seaboard Vessel Sharing Agreement.

Parties: BBC Chartering & Logistics GmbH & Co. KG, BBC Chartering Carriers GmbH & Co KG, and BBC Project Chartering GmbH Co KG (acting as a single party); and Seaboard Marine Ltd.

Filing Party: Wayne Rohde; Cozen O'Connor.

Synopsis: The Agreement authorizes the parties to share vessels in the trade between the U.S. Gulf Coast and ports in Jamaica, the Dominican Republic, Chile, Peru, Ecuador, and on the Gulf Coast of Mexico.

Proposed Effective Date: 11/29/2018.

Location: https://www2.fmc.gov/FMC.Agreements.Web/Public/AgreementHistory/19300.

Dated: October 16, 2018.
Rachel Dickon,
Secretary.

[FR Doc. 2018-22819 Filed 10-18-18; 8:45 am]

BILLING CODE 6731-AA-P